INTERNATIONAL TRADE COMMISSION

[Investigation No. 731-TA-683 (Second Review)]

Fresh Garlic From China

Determination

On the basis of the record ¹ developed in the subject five-year review, the United States International Trade Commission (Commission) determines, pursuant to section 751(c) of the Tariff Act of 1930 (19 U.S.C. 1675(c)) (the Act), that revocation of the antidumping duty order on fresh garlic from China would be likely to lead to continuation or recurrence of material injury to an industry in the United States within a reasonably foreseeable time.

¹ The record is defined in sec. 207.2(f) of the Commission's Rules of Practice and Procedure (19 CFR 207.2(f)).

Background

The Commission instituted this review on February 1, 2006 (71 FR 5374) and determined on May 8, 2006 that it would conduct an expedited review (71 FR 29352, May 22, 2006). Notice of the scheduling of the Commission's review was given by posting copies of the notice in the Office of the Secretary, U.S. International Trade Commission, Washington, DC, and by publishing the notice in the Federal Register on May 22, 2006 (71 FR 29352).

The Commission is scheduled to transmit its determination in this review to the Secretary of Commerce on September 28, 2006. The views of the Commission are contained in USITC Publication 3886 (September 2006), entitled Fresh Garlic From China (Inv. No. 731-TA-683 (Second Review)).

By order of the Commission.
Issued: September 28, 2006.
Marilyn R. Abbott,
Secretary to the Commission.

[FR Doc. E6-16383 Filed 10-3-06; 8:45 am]

BILLING CODE 7020-02-P